DEPARTMENT OF DEFENSE

Department of the Navy

Meeting of the Chief of Naval Operations (CNO) Executive Panel

AGENCY: Department of the Navy, DOD.

ACTION: Notice of closed meeting.

SUMMARY: The CNO Executive Panel will meet to conduct the midterm briefing of the War for People and Professional Development Task Forces to the Chief of Naval Operations. This meeting will consist of discussions relating to Navy strategy for human resources. This meeting will be closed to the public.

DATES: The meeting will be held on Friday, June 8, 2001, from 7:30 a.m. to 8:30 a.m.

ADDRESSES: The meeting will be held at the Office of the Chief of Naval Operations, 2000 Navy Pentagon, Room 4E630, Washington, DC 20350-2000.

FOR FURTHER INFORMATION CONCERNING THIS MEETING CONTACT: Commander Christopher Agan, CNO Executive Panel, 4825 Mark Center Drive, Alexandria, VA 22311, (703) 681-6205.

SUPPLEMENTARY INFORMATION: Pursuant to the provisions of the Federal Advisory Committee Act (5 U.S.C. App. 2), these matters constitute information that relates solely to the internal rules and practices of the agency. Accordingly, the Secretary of the Navy has determined in writing that the public interest requires that all sessions of the meeting be closed to the public because they will be concerned with matters listed in title 5 U.S.C, section 552b(c)(2).

Dated: May 18, 2001.
J.L. Roth,
Lieutenant Commander, Judge Advocate General's Corps, Federal Register Liaison Officer.

[FR Doc. 01-13462 Filed 5-29-01; 8:45 am]

BILLING CODE 3810-FF-P